DEPARTMENT OF TRANSPORTATION

Pipeline and Hazardous Materials Safety Administration

Notice of Application for Special Permits

AGENCY: Pipeline and Hazardous Materials Safety Administration (PHMSA), DOT.

ACTION: List of applications for special permits.

SUMMARY: In accordance with the procedures governing the application for, and the processing of, special permits from the Department of Transportation's Hazardous Material Regulations (49 CFR part 107, Subpart B), notice is hereby given that the Office of Hazardous Materials Safety has received the application described herein. Each mode of transportation for which a particular special permit is requested is indicated by a number in the “Nature of Application” portion of the table below as follows: 1—Mot/or vehicle, 2—Rail freight, 3—Cargo vessel, 4—Cargo aircraft only, 5—Passenger-carrying aircraft.

DATES: Comments must be received on or before September 17, 2012.

Address Comments To: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHI-I-30, 1200 New Jersey Avenue Southeast, Washington DC or at http://regulations.gov.

This notice of receipt of applications for special permit is published in accordance with Part 107 of the Federal hazardous materials transportation law (49 U.S.C. 5117(b); 49 CFR 1.53(b)).

Issued in Washington, DC, on August 7, 2012.
Donald Burger,
Chief, General Approvals and Permits.

Application No. | Docket No. | Applicant | Regulation(s) affected | Nature of special permits thereof
NEW SPECIAL PERMITS
15658-N |  | Xcel Energy, Monticello, MN | 49 CFR 173.427(b)(1) | To authorize the transportation in commerce of certain Radioactive material in alternative packaging by highway. (mode 1).
15671-N |  | Formulated Solutions, Largo, FL | 49 CFR 173.306(a)(3)(v) | To authorize construction of DOT 2P or DOT 2Q non-refillable aerosol container using an alternative leak test in lieu of the hot water bath. (modes 1, 2, 3, 4).
15675-N |  | The Boeing Company, St. Louis, MO | 49 CFR 172.101 Column (9B) | To authorize the one-time transportation in commerce of certain explosives that are forbidden for transportation by cargo only aircraft.
15676-N |  | Iberica del Espacio, S.A | 49 CFR 172.101 Column (9B) | To authorize the transportation in commerce of anhydrous ammonia by cargo aircraft exceeding the quantities authorized in Column (9B).
15678-N |  | Department of State, Washington, DC | 49 CFR 171.22(a) and ICAO TI Special Provison A67 | To authorize the transportation in commerce of non-spillable batteries in diplomatic pouches without requiring marking of the waybill.
15683-N |  | CESSCO, Johns Island, SC | 49 CFR 180.209(g) | To authorize the transportation in commerce of certain 4BW240 cylinders that have been tested using an alternative testing procedure.
15684-N |  | Pratt & Whitney Rocketdyne, Inc, Canoga Park, CA | 49 CFR 173.185(4) | To authorize the transportation in commerce of power systems that consist of lithium ion battery assemblies.
15686-N |  | Smoky Mountain Helicopters, Inc., Hanapepe, HI | 49 CFR 172.101 Column (9B), 172.204(c)(3), 173.27(b)(2), 172.200, 172.300, Part 173, 175.30(a)(1) and 175.75 | To authorize the transportation in commerce of certain hazardous materials by 14 CFR Part 133 Rotorcraft External Load Operations transporting hazardous materials attached to or suspended from an aircraft, in remote areas of the U.S. only, without being subject to hazard communication requirements, quantity limitations and certain loading and stowage requirements.
15688-N |  | Airborne Aviation, Lihue, HI | 49 CFR 172.101 Column (9B), 172.204(c)(3), 173.27(b)(2), 172.200, 172.300, Part 173, 175.30(a)(1) and 175.75 | To authorize the transportation in commerce of certain hazardous materials by 14 CFR Part 133 Rotorcraft External Load Operations transporting hazardous materials attached to or suspended from an aircraft, in remote areas of the U.S. only, without being subject to hazard communication requirements, quantity limitations and certain loading and stowage requirements.

[FR Doc. 2012-19833 Filed 8-16-12; 8:45 am]

BILLING CODE 4909-60-M